DEPARTMENT OF DEFENSE

Department of the Navy

Notice of Availability of Government-Owned Inventions; Available for Licensing

AGENCY: Department of the Navy, DoD.

ACTION: Notice.

SUMMARY: The Department of the Navy (DoN) announces the availability of the inventions listed below, assigned to the United States Government, as represented by the Secretary of the Navy, for domestic and foreign licensing by the Department of the Navy.

ADDRESSES: Requests for copies of the patents cited should be directed to Naval Surface Warfare Center, Crane Div., Code OOL, Bldg. 2, 300 Highway 361, Crane, IN 47522-5001.

FOR FURTHER INFORMATION CONTACT: Mr. Christopher Monsey, Naval Surface Warfare Center, Crane Div., Code OOL, Bldg. 2, 300 Highway 361, Crane, IN 47522-5001, email Christopher.Monsey@navy.mil, 812-854-2777.

SUPPLEMENTARY INFORMATION: The following patents are available for licensing: Patent No. 10,012,457 (Navy Case No. 200367): TAKE-DOWN COMPACT PRECISION RIFLE//Patent No. 10,036,800 (Navy Case No. 103387): SYSTEMS AND METHODS FOR USING COHERENT NOISE FILTERING//and Patent No. 10,037,498 (Navy Case No. 100130): PROJECT MANAGEMENT SYSTEM AND METHOD.

Authority: 35 U.S.C. 207, 37 CFR part 404

Dated: August 2, 2018.
Emilee Kujat Baldini,
Lieutenant Commander, Judge Advocate General's Corps, U.S. Navy, Federal Register Liaison Officer.

[FR Doc. 2018-16875 Filed 8-6-18; 8:45 am]

BILLING CODE 3810-FF-P